DEPARTMENT OF HEALTH AND HUMAN SERVICES

Centers for Disease Control and Prevention

Disease, Disability, and Injury Prevention and Control Special Emphasis Panel (SEP): Initial Review

The meeting announced below concerns Centers for Disease Control and Prevention Public Health Preparedness and Response Research to Aid Recovery from Hurricane Sandy, Request for Application (RFA) TP13-001, initial review.

Correction: The notice was published in the Federal Register on June 11, 2013, Volume 78, Number 112, Pages 35035—35036. The time, date and place should read as follows:

Time and Date: 12:00 p.m.-5:00 p.m. (EST), July 10, 2013 (Closed).

Place: Teleconference.

Contact Person for More Information: Shoukat Qari, D.V.M., Ph.D., Scientific Review Officer, CDC, 1600 Clifton Road, NE., Mailstop K72, Atlanta, Georgia 30333, Telephone: (770) 488-8808.

The Director, Management Analysis and Services Office, has been delegated the authority to sign Federal Register notices pertaining to announcements of meetings and other committee management activities, for both the Centers for Disease Control and Prevention and the Agency for Toxic Substances and Disease Registry.

Dana Redford,
Acting Director, Management Analysis and Services Office, Centers for Disease Control and Prevention.

[FR Doc. 2013-14541 Filed 6-18-13; 8:45 am]

BILLING CODE 4163-18-P